DEPARTMENT OF DEFENSE

Office of the Secretary

32 CFR Ch. I

Establishment of New Subchapter B—Military Commissions

AGENCY: Department of Defense.

ACTION: Final rule.

SUMMARY: This rule is being published to establish a new Subchapter B—Military Commissions in chapter I of subtitle A of title 32 of the Code of Federal Regulations and to redesignate existing subchapters B through K.

EFFECTIVE DATE: This rule is effective June 30, 2003.

FOR FURTHER INFORMATION CONTACT: Patricia Toppings, 703-601-4731.

Accordingly, by the authority of 10 U.S.C. 301, title 32, subtitle A, chapter I, is amended as follows:

1. Redesignate existing subchapters B through K as follows:

Existing subchapter | Re-designated subchapter
SUBCHAPTER B—DOD GRANT AND AGREEMENT REGULATIONS | SUBCHAPTER C—DOD GRANT AND AGREEMENT REGULATIONS
SUBCHAPTER C—PERSONNEL, MILITARY AND CIVILIAN | SUBCHAPTER D—PERSONNEL, MILITARY AND CIVILIAN
SUBCHAPTER D—REGULATIONS PERTAINING TO MILITARY JUSTICE | SUBCHAPTER E—REGULATIONS PERTAINING TO MILITARY JUSTICE
SUBCHAPTER E—SECURITY | SUBCHAPTER F—SECURITY
SUBCHAPTER F—DEFENSE CONTRACTING | SUBCHAPTER G—DEFENSE CONTRACTING
SUBCHAPTER G—CLOSURES AND REALIGNMENT | SUBCHAPTER H—CLOSURES AND REALIGNMENT
SUBCHAPTER H—CIVIL DEFENSE | SUBCHAPTER I—CIVIL DEFENSE
SUBCHAPTERS I-K—[RESERVED] | SUBCHAPTERS J-K—[RESERVED]
SUBCHAPTER L—ENVIRONMENT | SUBCHAPTER L—ENVIRONMENT

2. Remove parts 9 through 20 from Subchapter A.

3. Add a new Subchapter B as follows:

SUBCHAPTER B—MILITARY COMMISSIONS

Part

9 Procedures for Trails by Military Commissions of Certain Non-United States Citizens in the War Against Terrorism

10 Military Commission Instructions

11 Crimes and Elements of Trails by Military Commission

12 Responsibilities of the Chief Prosecutor, Prosecutors, and Assistant Prosecutors

13 Responsibilities of the Chief Defense Counsel, Detailed Defense Counsel, and Civilian Defense Counsel

14 Qualification of Civilian Defense Counsel

15 Reporting Relationships for Military Commission Personnel

16 Sentencing

17 Administrative Procedures

18-20 [RESERVED]

Dated: June 24, 2003.
Patricia L. Toppings,
Alternate OSD Federal Register Liaison Officer, Department of Defense.

[FR Doc. 03-16389 Filed 6-27-03; 8:45 am]

BILLING CODE 5001-08-M